Proclamation 7767 of April 2, 2004

Education and Sharing Day, U.S.A., 2004

By the President of the United States of America

A Proclamation

On Education and Sharing Day, U.S.A., we recognize the importance of teaching children good character and values. Families, schools, and religious congregations help instill in our children the enduring values of courage, compassion, integrity, and respect for differences of faith and race. By building the mind and character of every child in America, we encourage our children to make the right choices, and we create a future of promise and opportunity for all.

As we promote good character, we must also advance excellence in education and set high standards for all of our students. By raising expectations, insisting on results, and challenging failure, we strengthen our schools and create an environment where every student can succeed.

To help America's young people make the right choices, we need to provide them with good examples. Strong role models help children build confidence, gain knowledge, and develop good character. For the past 20 years, this day has honored Rabbi Menachem Mendel Schneerson, the Lubavitcher Rebbe. He helped establish education and outreach centers, offering social service programs and humanitarian aid worldwide. After his death in 1994, the Rebbe received the Congressional Gold Medal for his “outstanding and lasting contributions toward improvements in world education, morality, and acts of charity.”

NOW, THEREFORE, I, GEORGE W. BUSH, President of the United States of America, by virtue of the authority vested in me by the Constitution and laws of the United States, do hereby proclaim April 2, 2004, as Education and Sharing Day, U.S.A. I call upon all Americans to strengthen our Nation by teaching our children about the culture of responsibility and citizenship.

IN WITNESS WHEREOF, I have hereunto set my hand this second day of April, in the year of our Lord two thousand four, and of the Independence of the United States of America the two hundred and twenty-eighth.

B

[FR Doc. 04-8042

Filed 4-6-04; 8:58 am]

Billing code 3195-01-P